DEPARTMENT OF THE INTERIOR

National Park Service

[NPS-WASO-NAGPRA-23321; PPWOCRADN0-PCU00RP14.R50000]

Notice of Intent to Repatriate Cultural Items: Heard Museum, Phoenix, AZ

AGENCY: National Park Service, Interior.

ACTION: Notice.

SUMMARY: The Heard Museum, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Heard Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Heard Museum at the address in this notice by July 14, 2017.

ADDRESSES: David M. Roche, Heard Museum, 2301 North Central Avenue, Phoenix, AZ 85004, telephone (602) 251-0226, email droche@heard.org.

SUPPLEMENTARY INFORMATION: Notice is here given in accordance with the Native American Graves Protection and Repatriation Act (NAGPRA), 25 U.S.C. 3005, of the intent to repatriate a cultural item under the control of the Heard Museum, Phoenix, AZ, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1907, one cultural item was created by Jack Tonto (a.k.a. Tonto Jack) for Taylor Gabbard, who lived in the Arizona Territory. The cultural item was passed down to his descendants, exhibited at a branch of the Phoenix Public Library for a number of years, and published online. On April 17, 2014, the cultural item was donated to the Heard Museum and accessioned into their collection. The cultural item is a painted hide.

Representatives of the San Carlos Apache Tribe of the San Carlos Reservation, Arizona; Tonto Apache Tribe of Arizona; White Mountain Apache Tribe of the Fort Apache Reservation, Arizona; and Yavapai-Apache Nation of the Camp Verde Indian Reservation, Arizona, have identified the painted hide as affiliated with the Yavapai-Apache Nation of the Camp Verde Indian Reservation, Arizona. They further identify imagery on the hide as having been made for a specific use in a specific ceremony. The practitioner of this ceremony used this cultural item, along with specific songs and prayers to animate the cultural item with power from the creation and specific products of the creation, for the purpose of blessing. Medicine people today practice this ceremony as it has always been practiced. Due to the nature, the beliefs, and the items integral to this ceremony, the hide has ongoing historical, traditional, and cultural importance central to Western Apache culture.

The last part of the ceremony for which this item was made, following the death of the individual for whom it was made, involves placing the hide in a secure location away from human habitation. Failing to put this hide away properly after its more active use or removing this item from its resting place, thus interrupting the unfolding ritual, poses great danger to those who come in contact with it. Putting the item away properly can only be accomplished by individuals who have been specifically trained to perform this task, and is the only way to restore physical possession of the item to the Creator and to begin completion of the ceremony. The Creator is the only One who has the right to possess this type of cultural item after its use by humans. The traditional cultural authorities who have been consulted have determined that this cultural item must now be properly put away.

Determinations Made by the Heard Museum

Officials of the Heard Museum have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and Yavapai-Apache Nation of the Camp Verde Indian Reservation, Arizona.

Additional Requestors and Disposition

Lineal descendants or representatives of any Indian tribe or Native Hawaiian organization not identified in this notice that wish to claim these cultural items should submit a written request with information in support of the claim to David M. Roche, Heard Museum, 2301 North Central Avenue, Phoenix, AZ 85004, telephone (602) 251-0226, email droche@heard.org, by July 14, 2017. After that date, if no additional claimants have come forward, transfer of control of the sacred object and object of cultural patrimony to Yavapai-Apache Nation of the Camp Verde Indian Reservation, Arizona, may proceed.

The Heard Museum is responsible for notifying the San Carlos Apache Tribe of the San Carlos Reservation, Arizona; Tonto Apache Tribe of Arizona; White Mountain Apache Tribe of the Fort Apache Reservation, Arizona; and Yavapai-Apache Nation of the Camp Verde Indian Reservation, Arizona, that this notice has been published.

Dated: April 27, 2017.
Melanie O'Brien,
Manager, National NAGPRA Program.

[FR Doc. 2017-12291 Filed 6-13-17; 8:45 am]

BILLING CODE 4312-52-P